DEPARTMENT OF VETERANS AFFAIRS

Advisory Committee on OIF/OEF Veterans and Families; Notice of Meeting

The Department of Veterans Affairs (VA) gives notice under Public Law 92-463 (Federal Advisory Committee Act) that the Advisory Committee on OIF/OEF Veterans and Families will meet on September 11-13, 2007, at the Department of Veterans Affairs' Medical Center in Minneapolis, Minnesota. The meeting will be held in the auditorium of that facility and will be open to the public.

On September 11, the session will begin at 9:30 a.m. and end at 12 noon. On September 12, the session will begin at 9 a.m. and end at 2 p.m. On September 13, the session will begin at 9 a.m. and end at 3:30 p.m.

The purpose of the Committee is to advise the Secretary of Veterans Affairs on the full spectrum of health care, benefits delivery and related family support issues that confront servicemembers during their transition from active duty to veteran status and during their post-service years. The Committee will focus on the concerns of all men and women with active military service in Operation Iraqi Freedom and/or Operation Enduring Freedom, but will pay particular attention to severely disabled veterans and their families.

The agenda for the September 11-13 meeting will include briefings by each of the two subcommittees on recent site visits, an update on recent legislation affecting veterans and veterans' benefits, and an update on recommendations from the President's Task Force on Returning Global War on Terror Heroes. The Committee will also discuss its findings and recommendations, its general workplan, next steps and future meeting dates.

The meeting will include time reserved for public comments. Individuals wishing to make oral statements must pre-register not later than September 4, 2007 by contacting Tiffany Glover by e-mail at tiffany.glover@va.gov, and by submitting a 1-2 page summary of their statements for inclusion in the official record of the meeting. Oral statements by the public will be limited to five minutes each and will be received at 11:30 a.m.-12 p.m. on September 11, and at 3 p.m.-3:30 p.m. on September 13. The public may also submit written statements for the Committee's review to the Advisory Committee on OIF/OEF Veterans and Families (008), Department of Veterans Affairs, 810 Vermont Avenue, NW., Washington, DC 20420.

Anyone seeking additional information should contact Ronald Thomas, Esq., Designated Federal Officer, at (202) 273-5182.

By Direction of the Secretary.
Dated: August 14, 2007.
E. Philip Riggin,
Committee Management Officer.

[FR Doc. 07-4080 Filed 8-20-07; 8:45 am]

BILLING CODE 8320-01-M